DEFENSE NUCLEAR FACILITIES SAFETY BOARD

Sunshine Act; Notice of Meeting

Pursuant to the provisions of the “Government in the Sunshine Act” (5 U.S.C. 552b), notice is hereby given of the Defense Nuclear Facilities Safety Board's (Board) two meetings described below. The Board will also conduct a series of public hearings pursuant to 42 U.S.C. 2286b and invites any interested persons or group to present any comments, technical information, or data concerning safety issues relates to the matters to be considered.

TIME AND DATE OF MEETING: 9 a.m., October 21, 2003, and 9 a.m., October 23, 2003.

PLACE: Defense Nuclear Facilities Safety Board, Public Hearing Room, 625 Indiana Avenue, NW., Suite 300, Washington, DC 20004-2001. Additionally, as a part of the Board's E-Government initiative, the meetings will be presented live throughout Internet video streaming. A link to these presentations will be available on the Board's Web site (http://ww.dnfsb.gov).

STATUS: Open. While the Government in the Sunshine Act does not require that the scheduled discussions be conducted in a meeting, the Board has determined that open meetings in this specific case further the public interests underlying both the Sunshine Act and the Board's enabling legislation.

MATTERS TO BE CONSIDERED: The Board has been reviewing the Department of Energy's (DOE) current oversight and management of the contracts and contractors it relies upon to accomplish the mission assigned to DOE under the Atomic Energy Act of 1954, as amended. We will focus on what impact, if any, DOE's new initiatives may have upon assuring adequate protection of the health and safety of the public and workers at DOE's defense nuclear facilities. The second and third public meetings will collect information needed to understand and address any health or safety concerns that may require Board action. This will include, but is not limited to, presentations by DOE and the National Nuclear Security Administration (NNSA) to explain their contract management and oversight initiatives, presentations by Federal and industry experts in Federal contracting for essential and high risk government services; and possibly further presentations by Board staff.

The Board has identified several key areas that will be better examined in public meetings. For example, during the October 21st meeting, DOE and NNSA will discuss their new approaches which increase DOE's and NNSA's reliance upon contractor self-assessment programs while decreasing Federal oversight. During the October 23rd meeting, the Board will hear from representatives from the aerospace industry. The information gathered at that time will explore Federal contract management and oversight experience and will provide relevant reference experience.

In subsequent public meetings, the Board will explore in more depth the field application of Federal management and oversight policies being developed by DOE and NNSA for defense nuclear facilities. The public hearing portions are independently authorized by 42 U.S.C. 2286b.

FOR FURTHER INFORMATION CONTACT: Kenneth M. Pusateri, General Manager, Defense Nuclear Facilities Safety Board, 625 Indiana Avenue, NW., Suite 700, Washington, DC 20004-2901, (800) 788-4016. This is a toll-free number.

SUPPLEMENTARY INFORMATION: Requests to speak at the hearings may be submitted in writing or by telephone. The Board asks that commentators describe the nature and scope of their oral presentation. Those who contact the Board prior to close of business on October 20, 2003, will be scheduled for time slots, beginning at approximately 11:30 a.m., for the October 21st meeting. Those who contact the Board prior to close of business on October 22, 2003, will be scheduled for time slots, beginning at approximately 11:30 a.m., for the October 23rd meeting. The Board will post a schedule for those speakers who have contacted the Board before each hearing. The posting will be made at the entrance to the Public Hearing Room at the start of each 9 a.m. meeting.

Anyone who wishes to comment or provide technical information or data may do so in writing, either in lieu of, or in addition to, making an oral presentation. The Board Members may question presenters to the extent deemed appropriate. Documents will be accepted at the meeting or may be sent to the Defense Nuclear Facilities Safety Board's Washington, DC, office. The Board will hold the record open until November 24, 2003, for the receipt of additional materials. Transcripts of the meetings will be made available by the Board for inspection by the public at the Defense Nuclear Facilities Safety Board's Washington office and at DOE's public reading room at the DOE Federal Building, 1000 Independence Avenue, SW., Washington, DC 20585.

The Board specifically reserves its right to further schedule and otherwise regulate the course of the meetings and hearings, to recess, reconvene, postpone, or adjourn the meetings and hearings, conduct further reviews, and otherwise exercise its power under the Atomic Energy Act of 1954, as amended.

Dated: September 24, 2003.
John T. Conway,
Chairman.

[FR Doc. 03-24637 Filed 9-24-03; 3:56 pm]

BILLING CODE 3670-01-M